DEPARTMENT OF HEALTH AND HUMAN SERVICES

Centers for Disease Control and Prevention

[30Day-06-0213]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-4766 or send an e-mail to omb@cdc.gov. Send written comments to CDC Desk Officer, Office of Management and Budget, Washington, DC or by fax to (202) 395-6974. Written comments should be received within 30 days of this notice.

Proposed Project

National Vital Statistics Report Forms—Extension—National Center for Health Statistics (NCHS), Centers for Disease Control and Prevention (CDC).

Background and Brief Description

The National Vital Statistics Report Forms project (0920-0213) is an approved collection and compilation of national vital statistics. This collection dates back to the beginning of the 20th century and has been conducted since 1960 by the Division of Vital Statistics of the National Center for Health Statistics, CDC. The collection of the data is authorized by 42 U.S.C. 242k. The National Vital Statistics Report forms provide counts of monthly occurrences of births, deaths, infant deaths, marriages, and divorces. Similar data have been published since 1937 and are the sole source of these data at the national level. The data are used by the Department of Health and Human Services and by other government, academic, and private research and commercial organizations in tracking changes in trends of vital events.

Respondents for the National Vital Statistics Report form (CDC 64.146) are registration officials in each State and Territory, the District of Columbia, and New York City. In addition, 33 local (county) officials in New Mexico who record marriages occurring in each county of New Mexico will use this form. The data are routinely available in each reporting office as a by-product of ongoing activities. This form is designed to collect counts of monthly occurrences of births, deaths, infant deaths, marriages, and divorces immediately following the month of occurrence.

The Annual Marriage and Divorce Occurrence Report form (CDC 64.147) collects final annual counts of marriages and divorces by month for the United States and for each State. The statistical counts requested on this form differ from provisional estimates obtained on the National Vital Statistics Report form in that they represent complete and final counts of marriages, divorces, and annulments occurring during the months of the prior year. These final counts are usually available from State or county officials about eight months after the end of the data year. The data are widely used by government, academic, private research, and commercial organizations in tracking changes in trends of family formation and dissolution.

Respondents for the Annual Marriage and Divorce Occurrence Report form are registration officials in each State, the District of Columbia, New York City, Guam, Puerto Rico, Virgin Islands, Northern Marianas, and American Samoa. The data are routinely available in each reporting office as a by-product of ongoing activities.

There are no costs to the respondents other than their time. The total estimated annualized burden hours are 208.

Estimated Annualized Burden Table
Respondents | No. of respondents | No. of responses per respondent | Average burden per response (in hours)
CDC64.146: State and Territory registration officials | 58 | 12 | 12/60
CDC64.146: New Mexico County marriage registrars | 33 | 12 | 6/60
CDC64.147: State/Territory/City registration officials | 58 | 1 | 30/60

Dated: January 11, 2006.
Betsey S. Dunaway,
Acting Reports Clearance Officer, Centers for Disease Control and Prevention.

[FR Doc. E6-621 Filed 1-19-06; 8:45 am]

BILLING CODE 4163-18-P